DEPARTMENT OF AGRICULTURE

Forest Service

Collaborative Forest Landscape Restoration Advisory Panel

AGENCY: Forest Service, USDA.

ACTION: Call for nominations for the Collaborative Forest Landscape Restoration Advisory Panel.

SUMMARY: The Collaborative Forest Landscape Restoration Advisory Panel (Panel) was renewed on September 16, 2019, to evaluate and provide recommendations on the selection of collaborative forest landscape restoration proposals to the Secretary of Agriculture (Secretary) for approval as provided in Section 8629 of the Agriculture Improvement Act of 2018. The Secretary has determined that the work of the Panel is in the public's interest and relevant to the duties of the Department of Agriculture. Therefore, the Secretary is seeking nominations to fill vacancies on the Panel. The Panel is a statutory committee. Additional information concerning the Panel can be found by visiting the Panel's website at: https://www.fs.fed.us/restoration/CFLRP/advisory-panel.shtml.

DATES: Nominations must be received on or before November 14, 2019. Nominations must contain a completed application packet that includes the nominee's name, resume, references, and completed Form AD-755 (Advisory Committee or Research and Promotion Background Information). The package must be sent to the address below.

ADDRESSES: Send nominations and applications to Jessica Robertson, USDA Forest Service, Forest Management, Range Management and Vegetation Ecology, 201 14th Street SW, Room 3SW, Washington, DC 20024 by express mail or overnight courier service. If sent via the U.S. Postal Service, please send to the following address: USDA, Forest Service, Forest Management, National Forest System, Mail Stop 1103, 1400 Independence Avenue SW, Washington, DC 20250-1123, or by email at jessica.robertson@usda.gov.

FOR FURTHER INFORMATION CONTACT: Lindsay Buchanan, USDA, National Forest System, Forest Management, Range Management, and Vegetation Ecology, by phone at 503-808-2810 or by email at lindsay.buchanan@usda.gov, or contact Jessica Robertson, USDA, National Forest System, Forest Management, Range Management, and Vegetation Ecology, by phone at 202-205-0847 or by email at jessica.robertson@usda.gov. Individuals who use telecommunication devices for the deaf (TDD) may call the Federal Information Relay Service (FIRS) at 1-800-877-8339 between 8 a.m. and 5 p.m., Eastern Standard Time, Monday through Friday.

SUPPLEMENTARY INFORMATION:

Background

The purpose of the Collaborative Forest Landscape Restoration Program is to increase active management to improve forest health, reduce the risk of catastrophic wildfires, and promote jobs in rural economies through a process that:

(1) Encourages ecological, economic, and social sustainability;

(2) Leverages local resources with national and private resources;

(3) Facilitates the reduction of wildfire management costs, including through reestablishing natural fire regimes and reducing the risk of uncharacteristic wildfire; and

(4) Demonstrates the degree to which:

(a) Various ecological restoration techniques;

(i) achieve ecological and watershed health objectives;

(ii) affect wildfire activity and management costs; and

(b) The use of forest restoration byproducts can offset treatment costs while benefiting local rural economies and improving forest health.

The duties of the Committee include:

1. Evaluating Collaborative Forest Landscape Restoration project proposals with special consideration given to:

a. The strength of the proposal and strategy;

b. the strength of the ecological case of the proposal and the proposed ecological restoration strategies;

c. the strength of the collaborative process and the likelihood of successful collaboration throughout implementation;

d. whether the proposal is likely to reduce the risk of uncharacteristic wildfire and reestablish natural fire regimes;

e. whether the proposal would use restoration byproducts to reduce the relative costs of carrying out ecological restoration treatments and benefit local economies; and

f. whether the proposal is in alignment with a shared stewardship approach, including leveraging an appropriate level of non-Federal investments.

2. Provide recommendations on each proposal to the Secretary of Agriculture through the Chief of the Forest Service.

Advisory Committee Organization

The Committee shall be comprised of no more than 15 members approved by the Secretary of Agriculture where each will serve a 2-year term, although appointments shall have staggered terms. The Committee membership will be fairly balanced in terms of the points of view represented and functions to be performed. Non-Federal members of the Committee shall serve without pay, but will be reimbursed for reasonable costs incurred while performing duties on behalf of the Committee, subject to approval by the Designated Federal Officer (DFO). The Committee shall include representation from experts in the following interest areas:

1. Ecological Restoration,

2. Fire Ecology,

3. Fire Management,

4. Rural Economic Development,

5. Strategies for Ecological Adaptation to Climate Change,

6. Fish and Wildlife Ecology, and

7. Woody Biomass and Small-Diameter Tree Utilization.

Of these members, one will become the Chairperson who is recognized for his/her ability to lead a group in a fair and focused manner and who has been briefed on the mission of this Committee. The Committee will meet on an annual basis or as needed. This will be determined by the Committee. Vacancies will be filled in the manner in which the original appointment was made.

Nomination and Application Information

The appointment of members to the Committee will be made by the Secretary of Agriculture. The public is invited to submit nominations for membership on the Committee, either self-nomination or nomination of any qualified and interested person. Any individual or organization may nominate one or more qualified persons to represent the interest areas listed above. To be considered for membership, nominees must:

1. Identify what interest area group listed above they would represent and how they are qualified to represent that interest group;

2. State why they want to serve on the Committee and what they can contribute;

3. Provide 2-3 references that may be contacts about the nominee's application;

4. Provide a resume showing their past experience in working successfully as part of a coordinating group; and

5. Complete Form AD-755, Advisory Committee or Research and Promotion Background Information. Form AD-755 may be obtained from the listed Forest Service contact persons or from the following websites: https://www.ocio.usda.gov/document/ad-755 or https://www.fs.fed.us/restoration/CFLRP/advisory-panel.shtml.

Letters of recommendation are welcome. All nominations will be vetted by the Agency. Equal opportunity practices in accordance with USDA policies shall be followed in all membership appointments to the Committee. To ensure that the recommendations of the Committee have taken into account the needs of the diverse groups served by USDA, membership shall, to the extent practicable, include individuals with demonstrated ability to represent all racial and ethnic groups, women and men, and persons with disabilities.

Dated: October 7, 2019.
Cikena Reid,
USDA Committee Management Officer.

[FR Doc. 2019-22341 Filed 10-11-19; 8:45 am]

BILLING CODE 3411-15-P